DEPARTMENT OF ENERGY

Federal Energy Regulatory Commission

[Project No. 13333-000]

PUD 1 of Klickitat County; Notice of Competing Preliminary Permit Application Accepted for Filing and Soliciting Comments and Motions To Intervene

February 13, 2009.

On November 20, 2009, Public Utility District No. 1 of Klickitat County filed an application, pursuant to section 4(f) of the Federal Power Act (FPA), proposing to study the feasibility of the JD Pool Pumped Storage Project to be located in Klickitat County, Washington partially on lands owned by the Department of the Army. The proposed project would be closed loop and would not be on any existing body of water.

The proposed project would consist of: (1) An upper earthen dam with a height of 208 feet and a length of 4,330 feet; (2) an upper reservoir with a surface area of 190 acres, a storage capacity of 11,445 acre-feet and a normal surface elevation of 2,445 feet MSL; (3) a lower earthen dam with a height of 65 feet and a length of 16,540 feet; (4) a lower reservoir with a surface area of 160 acres, a storage capacity of 10,580 acre-feet and a normal surface elevation of 565 feet MSL; (5) a 8,022 foot long, 24 foot diameter steel penstock; (6) a powerhouse containing 10 generator/pump units with a total installed capacity of 1,129 MW; (7) a 240 kV, 9.6 mile long transmission line and; (8) appurtenant facilities. The annual production would be 4,121 GWh which would be sold to a local utility.

Applicant Contact: Greg Gallagher, Power Manager KPUD, 1313 S. Columbus Ave., Goldendale, WA 98620 (509) 773-7605.

FERC Contact: Steven Sachs (202) 502-8666.

Competing Application: This application competes with Project No. 13291-000 filed November 14, 2008. Competing applications must be filed on or before March 2, 2009.

Deadline for filing comments, motions to intervene: 60 days from the issuance of this notice. Comments, motions to intervene, notices of intent and competing applications may be filed electronically via the internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13333) in the docket number field to access the document. For assistance, call toll-free 1-866-208-3372.

Kimberly D. Bose,
Secretary.

[FR Doc. E9-3697 Filed 2-20-09; 8:45 am]

BILLING CODE 6717-01-P